DEPARTMENT OF THE INTERIOR

Fish and Wildlife Service

Availability of Final Comprehensive Conservation Plan for Medicine Lake National Wildlife Refuge Complex, Medicine Lake, MT

AGENCY: Fish and Wildlife Service, Interior

ACTION: Notice of availability.

SUMMARY: We, the U.S. Fish and Wildlife Service (Service) announce that the final Comprehensive Conservation Plan (CCP) for the Medicine Lake National Wildlife Refuge (NWR) Complex is available. This CCP, prepared pursuant to the National Wildlife Refuge System Improvement Act of 1997 and the National Environmental Policy Act of 1969, describes how the Service intends to manage the Medicine Lake NWR Complex consisting of Medicine Lake NWR, the Northeast Montana Wetland Management District (WMD), and Lamesteer NWR for the next 15 years.

ADDRESSES: A copy of the CCP or Summary may be obtained by writing to U.S. Fish and Wildlife Service, Division of Refuge Planning, 134 Union Boulevard, Suite 300, Lakewood, Colorado, 80228, or downloaded from http://mountain-prairie.fws.gov/planning.

FOR FURTHER INFORMATION CONTACT: Laurie Shannon, 303-236-4317 (phone); 303-236-4792 (fax); or laurie_shannon@fws.gov.

SUPPLEMENTARY INFORMATION: The Medicine Lake NWR Complex is located within the highly productive prairie pothole region of the Northern Great Plains, along the western edge of the Missouri Coteau, in Northeastern Montana. It is composed of three individual units: the Medicine Lake NWR, the Northeast Montana WMD, and the Lamesteer NWR. These refuges are managed as one complex, and together they are dispersed across four counties and require management of more than 73,532 acres of Service-owned lands and wetland and/or grassland easements or leases on privately-owned land. Medicine Lake NWR encompasses about 31,534 acres including 11,360 acres of designated wilderness and was established in 1935 as “* * * a refuge and breeding ground for migratory birds and other wildlife” (Executive Order 7148, dated August 29, 1935). The Northeast Montana WMD was established in 1968 and consists of Waterfowl Production Areas and wetland and grassland easements. “Waterfowl Production Areas may be acquired without regard to the limitations and requirements of the Migratory Bird Conservation Act (16 U.S.C. 715 et seq.), but all of the provisions of such Act which govern the administration and protection of lands acquired thereunder, except the inviolate sanctuary provisions of such Act * * * ” (16 U.S.C. 718 d). Lamesteer NWR, established in 1942 as an easement refuge, was described as “800 acres in Wibaux County, Montana, as refuge and breeding ground for migratory birds and other wildlife” (Executive Order 9166, dated May 19, 1942).

The refuge complex is home to approximately 280 species of birds, 38 species of mammals, and 17 species of reptiles and amphibians. Each unit of the National Wildlife Refuge System (Refuge System), including the Medicine Lake NWR Complex, has specific purposes for which it was established and for which legislation was enacted. Those purposes are used to develop and prioritize management goals and objectives within the Refuge System mission, and to guide which public uses will occur on these refuges. The planning process is a way for the Service and the public to evaluate management goals and objectives for the best possible conservation efforts of this important wildlife habitat, while providing for wildlife-dependent recreation opportunities that are compatible with the refuges' establishing purposes and the mission of the Refuge System.

This final CCP identifies goals, objectives, and strategies for the management of Medicine Lake NWR Complex that emphasize restoration and maintenance of native habitats in vigorous condition for migratory birds. The CCP places high importance on the control of invasive plant species with partners and integrated pest management. It seeks to provide habitats in order to contribute to conservation, enhancement, and production of migratory bird species while protecting federally listed species.

The availability of the draft CCP and Environmental Assessment (EA) was announced in the Federal Register on August 7, 2007, and made available for a 30-day public review and comment period. The draft CCP/EA evaluated three alternatives for managing Medicine Lake NWR and the Northeast Montana WMD, and two alternatives for managing Lamesteer NWR for the next 15 years.

The preferred alternative would conserve the natural resources of Northeast Montana by restoring or protecting the native and mixed-grass prairie grasslands and maintaining high-quality nesting habitats within the refuge complex. The refuge would reduce populations of selected species of invasive plants, and control of crested wheatgrass would be the management priority. The approved refuge administrative boundary would be expanded through willing sellers or buyers by about 722 hectares (1,784 acres) based on three priority areas. This alternative would focus funding for visitor-use resources on developing access and improving opportunities for wildlife-dependent recreational uses (hunting, fishing, wildlife observation, photography, interpretation, and environmental education) while also encouraging a greater understanding and appreciation for the mixed grass prairie ecosystem.

We selected this alternative because it best meets the purposes and goals of the Medicine Lake NWR and the Northeast Montana WMD, as well as the mission and goals of the Refuge System. The preferred alternative also will benefit federally listed species, shore birds, migrating and nesting waterfowl, neotropical migrants, including birds of management concern and resident wildlife. Environmental education and partnerships will result in improved wildlife-dependent recreational opportunities. Cultural and historical resources as well as federally listed species will be protected.

The preferred alternative for Lamesteer NWR would take the refuge out of the Refuge System and relinquish the easement to the current landowner. The Service's easement requirements would no longer exist, and we would divest our interest in the refuge. This would be carried out within 15 years.

Through the CCP process, we evaluated the level of national trust resource values represented by Lamesteer NWR to determine if those values and associated risks were sufficient to justify continuation of the easement. Trust resources are resources that through law or administrative act are held in trust for the people by the government. We determined that Lamesteer NWR possesses no trust resource values and minimal habitat value for wildlife. We have no management authority on the uplands surrounding the easement, and public access is by permission of the landowner. Further, the dam structure is in need of substantial repairs to meet the State of Montana and regional dam safety standards. We determined that Lamesteer NWR does not meet the goals of the Refuge System or the legislative purpose of the refuge.

We are furnishing this notice to advise other agencies and the public of the availability of the final CCP, provide information about the desired conditions for the Medicine Lake NWR Complex, and offer details on how we will implement management strategies. Based on the review and evaluation of the information contained in the EA, the Regional Director has determined that implementation of the Final Plan does not constitute a major Federal action that would significantly affect the quality of the human environment within the meaning of Section 102(2)(c) of the National Environmental Policy Act. Therefore, an Environmental Impact Statement will not be prepared.

Dated: October 2, 2007.
Gary Mowad,
Acting Deputy Regional Director.

Editorial Note: This document was received at the Office of the Federal Register on February 14, 2008.

[FR Doc. E8-3079 Filed 2-19-08; 8:45 am]

BILLING CODE 4310-55-P